DEPARTMENT OF COMMERCE

National Oceanic and Atmospheric Administration

[I.D. 041304B]

Endangered Species; File No. 1260

AGENCY: National Marine Fisheries Service (NMFS), National Oceanic and Atmospheric Administration (NOAA), Commerce.

ACTION: Issuance of permit modification.

SUMMARY: Notice is hereby given that the NMFS Southeast Region (SER) has been issued a modification to scientific research Permit No. 1260.

ADDRESSES: The modification and related documents are available for review upon written request or by appointment in the following office: Permits, Conservation and Education Division, Office of Protected Resources, NMFS, 1315 East-West Highway, Room 13705, Silver Spring, MD 20910; phone (301)713-2289; fax (301)713-0376.

FOR FURTHER INFORMATION CONTACT: Patrick Opay or Ruth Johnson, (301)713-2289.

SUPPLEMENTARY INFORMATION: On March 1, 2004, notice was published in the Federal Register (69 FR 9596) that a modification of Permit No. 1260, issued June 29, 2001 (66 FR 34621), had been requested by the above-named organization. The requested modification has been granted under the authority of the Endangered Species Act of 1973, as amended (ESA; 16 U.S.C. 1531 et seq.) and the regulations governing the taking, importing, and exporting of endangered and threatened species (50 CFR 222-226).

The modification authorizes the permit holder to take an additional 14 loggerhead and 6 Kemp's ridley sea turtles annually, and adds an annual take authorization of 9 leatherback, 6 green and 6 hawksbill sea turtles to the permit. Turtles will be handled, flipper tagged and measured after they have been captured during fishery resource assessment cruises, and then released. The modification does not cover the incidental capture of the sea turtles, which is authorized separately in the biological opinion relating to the authorization of the assessment cruises.

Issuance of this modification, as required by the ESA was based on a finding that such permit (1) was applied for in good faith, (2) will not operate to the disadvantage of the endangered species which is the subject of this permit, and (3) is consistent with the purposes and policies set forth in section 2 of the ESA.

Dated: May 14, 2004.
Stephen L. Leathery,
Chief, Permits, Conservation and Education Division, Office of Protected Resources, National Marine Fisheries Service.

[FR Doc. 04-11581 Filed 5-20-04; 8:45 am]

BILLING CODE 3510-22-S